SMALL BUSINESS ADMINISTRATION

[Declaration of Disaster #3236]

Commonwealth of Pennsylvania

Cumberland County and the contiguous counties of Adams, Dauphin, Franklin, Perry, and York in the Commonwealth of Pennsylvania constitute a disaster area as a result of damages caused by a fire that occurred on December 18, 1999 in the Borough of Carlisle. Applications for loans for physical damage as a result of this disaster may be filed until the close of business on March 24, 2000, and for economic injury until the close of business on October 24, 2000 at the address listed below or other locally announced locations: U.S. Small Business Administration, Disaster Area 1 Office, 360 Rainbow Boulevard South, 3rd Floor, Niagara Falls, NY 14303.

The interest rates are:

For Physical Damage

Homeowners with credit available elsewhere: 7.500%

Homeowners without credit available elsewhere: 3.750%

Businesses with credit available elsewhere: 8.000%

Businesses and non-profit organizations without credit available elsewhere: 4.000%

Others (including non-profit organizations) with credit available elsewhere: 6.750%

For Economic Injury

Businesses and small agricultural cooperatives without credit available elsewhere: 4.000%

The numbers assigned to this disaster are 323605 for physical damage and 9G6200 for economic injury.

(Catalog of Federal Domestic Assistance Program Nos. 59002 and 59008)

Dated: January 24, 2000.
Aida Alvarez,
Administrator.

[FR Doc. 00-2949 Filed 2-8-00; 8:45 am]

BILLING CODE 8025-01-U